ENVIRONMENTAL PROTECTION AGENCY

40 CFR Parts 52 and 81

[CO-001-0037b; FRL-6706-6]

Approval and Promulgation of Air Quality Implementation Plans; Colorado; Designation of Areas for Air Quality Planning Purposes

AGENCY: Environmental Protection Agency (EPA).

ACTION: Proposed rule.

SUMMARY: EPA is proposing to approve a State Implementation Plan (SIP) revision submitted by the Governor of the State of Colorado on September 22, 1997, for the purpose of establishing a redesignation for the Canon City area from nonattainment to attainment for particulate matter with an aerodynamic diameter less than or equal to a nominal 10 microns (PM10) under the 1987 standards. The Colorado Air Pollution Control Division's (Colorado) submittal, among other things, documents that the Canon City area has attained the PM10 national ambient air quality standards (NAAQS), requests redesignation to attainment, and includes a maintenance plan for the area demonstrating maintenance of the PM10 NAAQS for ten years. In the “Rules and Regulations” section of this Federal Register, EPA is approving the State's submittal as a direct final rule without prior proposal because the Agency views this as a noncontroversial SIP revision and redesignation and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time.

DATES: Comments must be received in writing on or before June 29, 2000.

ADDRESSES: Written comments may be mailed to Richard R. Long, Director, Air and Radiation Program, Mailcode 8P-AR, Environmental Protection Agency (EPA), Region VIII, 999 18th Street, Suite 500, Denver, Colorado, 80202. Copies of the documents relevant to this action are available for public inspection during normal business hours at the Air and Radiation Program, Environmental Protection Agency, Region VIII, 999 18th Street, Suite 500, Denver, Colorado, 80202. Copies of the State documents relevant to this action are available for public inspection at the Colorado Department of Public Health and Environment, Air Pollution Control Division, 4300 Cherry Creek Drive South, Denver, Colorado 80222-1530.

FOR FURTHER INFORMATION CONTACT: Cindy Rosenberg, EPA, Region VIII, (303) 312-6436.

SUPPLEMENTARY INFORMATION: See the information provided in the Direct Final action of the same title which is located in the Rules and Regulations section of this Federal Register.

Authority: 42 U.S.C. 7401 et seq.

Dated: May 18, 2000.
Jack W. McGraw,
Acting Regional Administrator, Region VIII.

[FR Doc. 00-13331 Filed 5-26-00; 8:45 am]

BILLING CODE 6560-50-P